DEPARTMENT OF THE INTERIOR

National Park Service

National Register of Historic Places; Notification of Pending Nominations

Nominations for the following properties being considered for listing in the National Register were received by the National Park Service before November 2, 2002.

Pursuant to section 60.13 of 36 CFR part 60 written comments concerning the significance of these properties under the National Register criteria for evaluation may be forwarded by United States Postal Service, to the National Register Historic Places, National Park Service, 1849 C St., NW., 2280, Washington, DC 20240; by all other carriers, National Register of Historic Places, National Park Service, 1201 Eye St., NW., 8th floor, Washington, DC 20005; or by fax, 202-343-1836. Written or faxed comments should be submitted by December 9, 2002.

Beth L. Savage,
Acting Keeper of the National Register of Historic Places.

DELAWARE

Kent County

St. Joseph's Industrial School, 355 W. Duck Creek Rd., Clayton, 02001491

GEORGIA

DeKalb County

Blair—Rutland Building, 215 Church St., Decatur, 02001492

Pickens County

Tate Gymnasium, 5600 GA 53 E, Tate, 02001493

INDIANA

Allen County

Smith Field, 426 W. Ludwig Rd., Fort Wayne, 02001495

MICHIGAN

Berrien County

South Berrien Center Uion Church and Cemetery, 10408 M-140, Berrien, 02001506

Jackson County

Michigan Central Railroad Jackson Depot, 501 E. Michigan Ave., Jackson, 02001504

Oakland County

Albertson, Eli and Sidney Teeter, House, 4480 Sheldon Rd., Oakland Township, 02001505

Otsego County

Kramer, Frank A. and Rae E. Harris, House, 221 N. Center Ave., Gaylord, 02001507

Wayne County

West Vernor—Junction Historic District (West Vernor Highway Survey Area, Detroit, Michigan MPS), W. Vernor Hwy., bet., Lansing and Cavalry, Detroit, 02001503

West Vernor—Lawndale Historic District (West Vernor Highway Survey Area, Detroit, Michigan MPS), W. Vernor Hwy., bet. Cabot and Ferris, Detroit, 02001501

West Vernor—Springwells Historic District (West Vernor Highway Survey Area, Detroit, Michigan MPS), W. Vernor Hwy, vet. Honorah and Norman, Detroit, 02001502

MISSISSIPPI

Bolivar County

Adath Israel Temple, 301 S. Bolivar Ave., Cleveland, 02001499

Jackson County

Bellevue, 3401 Beach Blvd., Pascagoula, 02001498

Kemper County

Zion Baptist Church, Little Zion Church Rd. W, 2 mi. N of Lauderdale/Kemper County Line, Collinsville, 02001497

MISSOURI

St. Louis Independent City

Brown, Paul, Building, 818 Olive St., St. Louis (Independent City), 02001496

Taylor—Olive Building, 4505 Olive St., St. Louis (Independent City), 02001494

NEW HAMPSHIRE

Cheshire County

Troy Village Historic District, Encompassing the village center, mostly along NH 12, Troy, 02001500

NEW JERSEY

Hunterdon County

Frog Hollow Road Bridge over minor tributary of the South Branch, Raritan River (Bridges of Tewksbury Township MPS), Frog Hollow Rd., approx. 1400′ W of Beavers Rd., Tewksbury, 02001509

Hollow Brook Road Bridge over tributary of the Lamington River (Bridges of Tewksbury Township MPS), Hollow Brook Rd. approx. 700′ W of Homestead Rd., Tewksbury, 02001510

Palatine Road Bridge over a minor tributary of the Lamington River (Bridges of Tewksbury Township MPS), Palatine Rd., jct. with Homestead and Cold Spring Rds., Tewsksbury, 02001508

Ocean County

Little Egg Harbor Friends Meeting House, 21 E. Main St., Tuckerton, 02001511

OHIO

Summit County

Warwick Interlocking Tower (Canal, Railroad, and Industrial Resources of the Village of Clinton/Warwick, Ohio MPS), 2955 S 1st. St., Clinton, 02001516

TENNESSEE

Shelby County

High Point Terrace Historic District (Residential Resources of Memphis MPS), Bounded by Highland, Eastland and Swan Ridge Circle, Walnut Grove and Sam Cooper, Memphis, 02001513

TEXAS

Liberty County

Liberty County Courthouse, 1923 Sam Houston Blvd., Liberty, 02001514

Tarrant County

Fort Worth High School, 1015 S. Jennings Ave., Fort Worth, 02001515

Hogg, Alexander, School, 900 St. Louis Ave., Fort Worth, 02001512

VIRGINIA

Prince William County

Cabin Branch Pyrite Mine Historic District, Prince William Forest Park, Triangle, 02001517

WEST VIRGINIA

Berkeley County

Hedges Chapel, 668 Mountain Lake Rd., Hedgesville, 02001520

Martinsburg, Mining, Manufacturing & Improvement Co. Historic District, NY, VA, WV, MD, FL and Faulkner, Martinsburg, 02001519

Ropp, Baker, House, 2301 Harlan Spring Rd., Martinsburg, 02001522

Ropp, R.C., House, 2199 Harlan Spring Rd., Martinsburg, 02001523

Rosemont Historic District, Tennessee, Illinois, Georgia, Kentucky Aves., Martinsburg, 02001524

Speck, Peter, House, 1149 Ben Speck Rd., Martinsburg, 02001526

Turner, Priscilla Strode, House, 347 Carlyle Rd., Beddington, 02001527

Cabell County

Rotary Park Bridge, Rotary Park, 31 St. and Rotary Dr., Huntington, 02001525

Hancock County

Hellings, Nathan, Apple Barn, WV 2, Newell, 02001529

Waterford Park, WV 2, Newell, 02001528

Marshall County

Cockayne, Bennett, House, 1111 Wheeling Ave., Glen Dale, 02001521

Ohio County

Wheeling Warhouse Historic District, Roughly along Main St., Water St., 21 St., 22nd St., South St., 18th St., Eoff St. and Chapline St., Wheeling, 02001530

Wayne County

Camp Mad Anthony Wayne, 2125 Spring Valley Dr., Huntington, 02001531

WISCONSIN

Dane County

College Hills Historic District, Roughly bounded by Colombia Rd., Amherst Dr., Bowdoin Rd., Corporate Limit, University Bay, and Harvard Dr., Shorewood Hills, 02001518

A request for a move has been received for the following resource:

WISCONSIN

Dane County

Lie Aslak Cabin, 3022 County Trunk P, Mount Hoeb, 86000622

A request for removal has been received for the following resource:

TENNESSEE

Davidson County

DuPont Fire Hall, (Old Hickory MRA), Old Hickory, 85001558

[FR Doc. 02-29786 Filed 11-21-02; 8:45 am]

BILLING CODE 4310-70-P